DEPARTMENT OF ENERGY

[FE Docket No. PP-285]

Application for Presidential Permit; Sharyland Utilities, L.P.

AGENCY: Office of Fossil Energy, DOE.

ACTION: Notice of application.

SUMMARY: Sharyland Utilities, L.P. (Sharyland) has applied for a Presidential permit to construct, connect, operate, and maintain a single-circuit, 138,000-volt (138-kV) alternating current electric transmission line across the U.S. border with Mexico.

DATES: Comments, protests, or requests to intervene must be submitted on or before November 3, 2003.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 or Michael T. Skinker (Program Attorney) 202-586-6667.

SUPPLEMENTARY INFORMATION: The construction, operation, maintenance, and connection of facilities at the international border of the United States for the transmission of electric energy between the United States and a foreign country is prohibited in the absence of a Presidential permit issued pursuant to Executive Order (EO) 10485, as amended by EO 12038.

On September 11, 2003, Sharyland filed an application with the Office of Fossil Energy(FE) of the Department of Energy (DOE) for a Presidential permit. Sharyland is a transmission and distribution service provider operating within a 6,000-acre master-planned community called Sharyland Plantation, situated between the cities of McAllen and Mission, Texas, along the border between the United States and Mexico.

Sharyland proposes to develop a single-circuit 138-kV transmission line in two phases. In the first phase Sharyland would tap an existing 138-kV transmission facility also owned by Sharyland, construct a 150-megawatt (MW) back-to-back alternating current/direct current/alternating current converter station in the immediate vicinity of the tap, and construct approximately one mile of 138-kV transmission line to the Mexico-U.S. border near the southern boundary of the City of Mission, Texas. At the border the facilities would interconnect with similar facilities owned by Comision Federal de Electricidad (CFE), the national electric utility of Mexico, and continue an additional five miles to CFE's Cumbres substation located approximately 6 miles from the City of Reynosa, Tamaulipas, Mexico. In the second phase, Sharyland would expand the converter facility to a capacity of 300 MW. Sharyland proposes to operate the transmission line as an “open access” facility available for use by other parties to transfer electric power between the United States and Mexico. Sharyland does not intend to seek an electricity export authorization from DOE.

Since the restructuring of the electric power industry began, resulting in the introduction of different types of competitive entities into the marketplace, DOE has consistently expressed its policy that cross-border trade in electric energy should be subject to the same principles of comparable open access and non-discrimination that apply to transmission in interstate commerce. DOE has stated that policy in export authorization granted to entities requesting authority to export over international transmission facilities. Specifically, DOE expects transmitting utilities owning border facilities constructed pursuant to Presidential permits to provide access across the border in accordance with the principles of comparable open access and non-discrimination contained in the FPA and articulated in Federal Energy Regulation Commission Order No. 888, as amended (Promoting Wholesale Competition Through Open Access Non-Discriminatory Transmission Services by Public Utilities). In furtherance of this policy, DOE intends to condition any Presidential permit issued in this proceeding on compliance with these open access principles.

Procedural Matters: Any person desiring to become a party to this proceeding or to be heard by filing comments or protests to this application should file a petition to intervene, comment or protest at the address provided above in accordance with §§ 385.211 or 385.214 of FERC's Rules of Practice and Procedures (18 CFR 385.211, 385.214). Fifteen copies of each petition and protest should be filed with DOE on or before the date listed above.

Additional copies of such petitions to intervene or protest also should be filed directly with Mark E. Caskey P.E., General Manager, Sharyland Utilities, L.P., 4403 West Military Highway, Suite 700, McAllen, TX 78503 AND Richard P. Noland, James M. Bushee, Sutherland Asbill & Brennan LLP, 1275 Pennsylvania Avenue, NW., Washington, DC 20004-2415.

Before a Presidential permit may be issued or amended, the DOE must determine that the proposed action will not adversely impact on the reliability of the U.S. electric power supply system. In addition, DOE must consider the environmental impacts of the proposed action (i.e., granting the presidential permit, with any conditions and limitations, or denying the permit) pursuant to NEPA. DOE also must obtain the concurrence of the Secretary of State and the Secretary of Defense before taking final action on a Presidential permit application.

The NEPA compliance process is a cooperative, non-adversarial process involving members of the public, state governments and the Federal government. The process affords all persons interested in or potentially affected by the environmental consequences of a proposed action an opportunity to present their views, which will be considered in the preparation of the environmental documentation for the proposed action. Intervening and becoming a party to this proceeding will not create any special status for the petitioner with regard to the NEPA process. To apply for the NEPA mailing list now, contact Mrs. Ellen Russell at the address above.

Copies of this application will be made available, upon request, for public inspection and copying at the address provided above. In addition, the application may be viewed or downloaded from the Office of Fossil Energy Web site at http://www.fe.doe.gov. Upon reaching the Fossil Energy home page, select “Electricity Regulation” and then “Pending Proceedings” from the options menu.

Issued in Washington, DC, on September 24, 2003.
Anthony J. Como,
Deputy Director, Electric Power Regulation, Office of Coal & Power Import/Export, Office of Coal & Power Systems, Office of Fossil Energy.

[FR Doc. 03-25004 Filed 10-1-03; 8:45 am]

BILLING CODE 6450-01-P